INTERNATIONAL TRADE COMMISSION

[Investigation No. 731-TA-1313 (Final)]

1,1,1,2-Tetrafluoroethane (R-134a) From China

Determination

On the basis of the record ¹ developed in the subject investigation, the United States International Trade Commission (“Commission”) determines, pursuant to the Tariff Act of 1930 (“the Act”), that an industry in the United States is materially injured by reason of imports of 1,1,1,2-tetrafluoroethane (“R-134a”) from China, provided for in subheading 2903.39.20 of the Harmonized Tariff Schedule of the United States, that have been found by the Department of Commerce (“Commerce”) to be sold in the United States at less than fair value (“LTFV”).²

¹ The record is defined in sec. 207.2(f) of the Commission's Rules of Practice and Procedure (19 CFR 207.2(f)).

² The Commission also finds that imports subject to Commerce's affirmative critical circumstances determination are not likely to undermine seriously the remedial effect of the antidumping duty order on China.

Background

The Commission, pursuant to section 735(b) of the Act (19 U.S.C. 1673d(b)), instituted this investigation effective March 3, 2016, following receipt of a petition filed with the Commission and Commerce by the American HFC Coalition and its individual members (Amtrol, Inc., West Warwick, Rhode Island; Arkema, Inc., King of Prussia, Pennsylvania; The Chemours Company FC LLC, Wilmington, Delaware; Honeywell International Inc., Morristown, New Jersey; Hudson Technologies, Pearl River, New York; Mexichem Fluor Inc., St. Gabriel, Louisiana; and Worthington Industries, Inc., Columbus, Ohio) and District Lodge 154 of the International Association of Machinists and Aerospace Workers. The Commission scheduled the final phase of the investigation following notification of a preliminary determination by Commerce that imports of R-134a from China were being sold at LTFV within the meaning of section 733(b) of the Act (19 U.S.C. 1673b(b)). Notice of the scheduling of the final phase of the Commission's investigation and of a public hearing to be held in connection therewith was given by posting copies of the notice in the Office of the Secretary, U.S. International Trade Commission, Washington, DC, and by publishing the notice in the Federal Register of November 7, 2016 (81 FR 78186). The hearing was held in Washington, DC, on February 23, 2017, and all persons who requested the opportunity were permitted to appear in person or by counsel.

The Commission made this determination pursuant to section 735(b) of the Act (19 U.S.C. 1673d(b)). It completed and filed its determination in this investigation on April 5, 2017. The views of the Commission are contained in USITC Publication 4679 (April 2017), entitled 1,1,1,2-Tetrafluoroethane (R-134a) from China: Investigation No. 731-TA-1313 (Final).

By order of the Commission.
Issued: April 5, 2017.
Lisa R. Barton,
Secretary to the Commission.

[FR Doc. 2017-07120 Filed 4-7-17; 8:45 am]

BILLING CODE 7020-02-P